INTERNATIONAL TRADE COMMISSION

[Investigation No. 337-TA-1394]

Certain Liquid Coolers for Electronic Components in Computers, Components Thereof, Devices for Controlling Same, and Products Containing Same; Notice of a Commission Determination To Review in Part a Final Initial Determination Finding a Violation of Section 337; Request for Written Submissions on the Issues Under Review and on Remedy, the Public Interest, and Bonding

AGENCY: U.S. International Trade Commission.

ACTION: Notice.

SUMMARY: Notice is hereby given that the U.S. International Trade Commission (“Commission”) has determined to review in part a final initial determination (“ID”) of the presiding administrative law judge (“ALJ”), Chief Judge Cheney. The Commission requests written submissions from the parties on the issues under review and submissions from the parties, interested government agencies, and other interested persons on the issues of remedy, the public interest, and bonding, under the schedule set forth below.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 21, 2024, based on a complaint filed on behalf of Cooler Master Co., Ltd. of Taiwan; CMI USA, Inc. of Claremont, California; and CMC Great USA, Inc. of San Jose, California (collectively, “Complainants”). 89 FR 20247-48 (Mar. 21, 2024). The complaint, as supplemented, alleges violations of section 337 of the Tariff Act of 1930, as amended, 19 U.S.C. 1337, in the importation into the United States, the sale for importation, or the sale within the United States after importation of certain liquid coolers for electronic components in computers, components thereof, devices for controlling same, and products containing same by reason of infringement of claims 1-3 and 14 of U.S. Patent No. 10,509,446 (“the '446 patent”); claims 1-4 of U.S. Patent No. 11,061,450 (“the '450 patent”); and the claim of U.S. Patent No. D856,941 (“the '941 design patent”). Id. The complaint further alleges that a domestic industry exists. Id. The Commission's notice of investigation named as respondents SilverStone Technology Co., Ltd. of Taiwan; SilverStone Technology, Inc. of Chino, California; Enermax Technology Corp. of Taiwan; Enermax USA of Chino, California; Shenzhen Apaltek Co., Ltd. of China; and Guangdong Apaltek Liquid Cooling Technology Co., Ltd. of China (collectively, “Respondents”). Id. The Office of Unfair Import Investigations is not participating in the investigation. Id.

The '941 design patent was terminated from the investigation by withdrawal of the complaint. Order No. 7 (Sept. 6, 2024), unreviewed by Comm'n Notice (Sept. 30, 2024).

A claim construction hearing was held on July 22, 2024, and a claim construction order issued on November 20, 2024. Order No. 10 (Nov. 20, 2024). An evidentiary hearing was held on December 2-5, 2024.

On March 21, 2025, the ALJ issued the subject ID. Respondents filed a petition for review of the ID on April 4, 2025. Complainants filed their response on April 14, 2025.

Having reviewed the record of the investigation, including the final ID, the parties' submissions to the ALJ, and the petition for review and response thereto, the Commission has determined to review the ID in part. Specifically, the Commission has determined to review the ID's analysis of the limitation “defining a heat exchange chamber” in the asserted claims of the '446 patent and the '450 patent in the context of invalidity, infringement, and the technical prong of the domestic industry requirement. The Commission has also determined to review the ID's findings on the economic prong of the domestic industry requirement. The Commission has determined not to review the ID's findings on other issues.

In connection with its review, the Commission requests responses to the following questions. The parties are requested to brief their positions with reference to the applicable law and the existing evidentiary record.

(1) Did the ID apply the plain and ordinary meaning of the claim limitation “defining a heat exchange chamber” in the context of the '446 patent and '450 patent with respect to invalidity, infringement, and the technical prong of the domestic industry requirement? If you disagree with the ID's interpretation of this limitation, please explain what meaning should have been applied and identify where you raised such arguments before the ALJ.

(2) Did the ID consistently apply the scope of the “defining a heat exchange chamber” limitation to the prior art, the accused products, and the domestic industry products? If you contend that there are inconsistencies in the ID, please explain how the limitation should have been consistently applied and identify where you raised such arguments before the ALJ.

(3) What is the amount of the domestic industry investments in dispute with respect to the remote controller addressed in the ID at pages 118-20? Are the domestic industry activities related to the remote controller limited to certain employees, a certain timeframe, or certain domestic industry products? Can the domestic industry investments in this investigation be allocated or otherwise modified to exclude all investments related to the remote controller? How would exclusion of these investments affect the ID's determination regarding the existence of a domestic industry?

(4) Is there any evidence in the record that shows how many employees or subcontractors of Complainants work on any aspect of the domestic industry products worldwide, including manufacturing activities? If so, please identify the number of worldwide employees or subcontractors and the labor costs attributable to the domestic industry products for those worldwide employees or subcontractors.

The parties are invited to brief only the discrete issues requested above. The parties are not to brief other issues on review, which are adequately presented in the parties' existing filings.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: The parties to the investigation are requested to file written submissions on the issues identified in this notice. Parties to the investigation, interested government agencies, and any other interested parties are encouraged to file written submissions on the issues of remedy, the public interest, and bonding.

In their initial submission, Complainants are also requested to identify the remedy sought and to submit proposed remedial orders for the Commission's consideration. Complainants are further requested to state the dates that the Asserted Patents expire, to provide the HTSUS subheadings under which the accused products are imported, and to supply the identification information for all known importers of the products at issue in this investigation. All initial written submissions, from the parties and/or third parties/interested government agencies, and proposed remedial orders from the parties must be filed no later than close of business on June 5, 2025. All reply submissions must be filed no later than the close of business on June 12, 2025. Opening submissions from the parties are limited to 40 pages. Reply submissions from the parties are limited to 30 pages. All submissions from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1394) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on May 22, 2025.

The authority for the Commission's determination is contained in section 337 of the Tariff Act of 1930, as amended (19 U.S.C. 1337), and in Part 210 of the Commission's Rules of Practice and Procedure (19 CFR part 210).

By order of the Commission.
Issued: May 22, 2025.
Lisa Barton,
Secretary to the Commission.

[FR Doc. 2025-09655 Filed 5-28-25; 8:45 am]

BILLING CODE 7020-02-P